NUCLEAR REGULATORY COMMISSION

[Docket No. 52-017]

Virginia Electric and Power Company, d/b/a Dominion Virginia Power, and Old Dominion Electric Cooperative; Correction to Notice of Hearing and Opportunity To Petition for Leave To Intervene on a Combined License for North Anna Unit 3

AGENCY: Nuclear Regulatory Commission.

ACTION: Correction.

SUMMARY: This document corrects a Notice of Hearing (regarding an application for a combined license) published in the Federal Register on March 10, 2008 (73 FR 12760) and a supplement to the Notice of Hearing published in the Federal Register on April 18, 2008 (73 FR 21162), which incorrectly identify the applicants. This action is necessary to correctly identify the applicants.

SUPPLEMENTARY INFORMATION: The title of both the Notice of Hearing and the supplement are corrected to replace “Dominion Virginia Power” with “Virginia Electric and Power Company d/b/a Dominion Virginia Power and Old Dominion Electric Cooperative.” The text of both the notice and supplemental notice are corrected to replace “Dominion Virginia Power (Dominion)” with “Virginia Electric and Power Company, doing business as Dominion Virginia Power (DVP or Dominion), and Old Dominion Electric Cooperative (ODEC).”

Dated at Rockville, Maryland, this 27th day of May 2008.
For the U.S. Nuclear Regulatory Commission.
Annette L. Vietti-Cook,
Secretary of the Commission.

[FR Doc. E8-12179 Filed 5-30-08; 8:45 am]

BILLING CODE 7590-01-P